DEPARTMENT OF TRANSPORTATION

Surface Transportation Board

[Docket No. AB 55 (Sub-No. 736X; Docket No. AB 290 (Sub-No. 368X]

CSX Transportation, Inc.—Abandonment Exemption—in Knoxville, Knox County, Tenn.; Norfolk Southern Railway Company—Discontinuance of Service Exemption—in Knoxville, Knox County, Tenn.

CSX Transportation, Inc. (CSXT) and Norfolk Southern Railway Company (NSR) (collectively, applicants) have jointly filed a verified notice of exemption under 49 CFR part 1152 subpart F-Exempt Abandonments and Discontinuances of Service for CSXT to abandon, and for NSR to discontinue service over, approximately 1.18 miles of rail line on CSXT's Second Creek Spur on CSXT's Central Region, Huntington Division, KD Subdivision between milepost 0KS 275.09 (Valuation Station 15304+87) at the end of the track and milepost 0KS 276.27 (Valuation Station 15368+89 near West Baxter Avenue in Knoxville, Knox County, Tenn. (the Line). The Line traverses United States Postal Service Zip Code 37921 and includes no stations.

Applicants have certified that: (1) No local traffic has moved over the Line for at least two years; (2) any overhead traffic on the Line can be rerouted over other lines; (3) no formal complaint has been filed by a user of rail service on the Line (or by a state or local government entity acting on behalf of such user) regarding cessation of service over the Line, and no such complaint is either pending with the Surface Transportation Board (Board) or with any U.S. District Court or has been decided in favor of a complainant within the two-year period; and (4) the requirements at 49 CFR 1105.7(c) (environmental report), 49 CFR 1105.11 (transmittal letter), 49 CFR 1105.12 (newspaper publication), and 49 CFR 1152.50(d)(1) (notice to governmental agencies) have been met.

As a condition to these exemptions, any employee adversely affected by the abandonment or discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, these exemptions will be effective on November 5, 2014, unless stayed pending reconsideration. Petitions to stay that do not involve environmental issues,¹ formal expressions of intent to file an OFA under 49 CFR 1152.27(c)(2),² and trail use/rail banking requests under 49 CFR 1152.29 must be filed by October 16, 2014. Petitions to reopen or requests for public use conditions under 49 CFR 1152.28 must be filed by October 27, 2014, with the Surface Transportation Board, 395 E Street SW., Washington, DC 20423-0001.

¹ The Board will grant a stay if an informed decision on environmental issues (whether raised by a party or by the Board's Office of Environmental Analysis (OEA) in its independent investigation) cannot be made before the exemption's effective date. See Exemption of Out-of-Serv. Rail Lines, 5 I.C.C. 2d 377 (1989). Any request for a stay should be filed as soon as possible so that the Board may take appropriate action before the exemption's effective date.

² Each OFA must be accompanied by the filing fee, which is currently set at $1,600. See 49 CFR 1002.2(f)(25).

A copy of any petition filed with the Board should be sent to applicants' representatives: For CSXT, Louis E. Gitomer, Law Offices of Louis E. Gitomer, LLC, 600 Baltimore Avenue, Suite 301, Towson, MD 21204, and for NSR, William A. Mullins, 2401 Pennsylvania Avenue, NW., Suite 300, Washington, DC 20037.

If the verified notice contains false or misleading information, the exemptions are void ab initio.

Applicants have filed environmental and historic reports that address the effects, if any, of the abandonment and discontinuance on the environment and historic resources. OEA will issue an environmental assessment (EA) by October 10, 2014. Interested persons may obtain a copy of the EA by writing to OEA (Room 1100, Surface Transportation Board, Washington, DC 20423-0001) or by calling OEA at (202) 245-0305. Assistance for the hearing impaired is available through the Federal Information Relay Service (FIRS) at (800) 877-8339. Comments on environmental and historic preservation matters must be filed within 15 days after the EA becomes available to the public.

Environmental, historic preservation, public use, or trail use/rail banking conditions will be imposed, where appropriate, in a subsequent decision.

Pursuant to the provisions of 49 CFR 1152.29(e)(2), CSXT shall file a notice of consummation with the Board to signify that it has exercised the authority granted and fully abandoned the Line. If consummation has not been effected by CSXT's filing of a notice of consummation by October 6, 2015, and there are no legal or regulatory barriers to consummation, the authority to abandon will automatically expire.

Board decisions and notices are available on our Web site at “WWW.STB.DOT.GOV.”

Decided: September 26, 2014.
By the Board, Joseph H. Dettmar, Acting Director, Office of Proceedings.
Raina S. White,
Clearance Clerk.

[FR Doc. 2014-23791 Filed 10-3-14; 8:45 am]

BILLING CODE 4915-01-P